DEPARTMENT OF JUSTICE

Notice of Lodging of Proposed Consent Decree Modification Under the Clean Air Act

On October 19, 2023, the Department of Justice lodged a proposed Consent Decree Modification (“Modification”) with the United States District Court for the Eastern District of Michigan in the lawsuit entitled United States and the Michigan Department of Environment, Great Lakes, and Energy v. Cleveland-Cliffs Steel Corp. (f/k/a AK Steel Corp.) Case No. 15-cv-11804.

The Modification amends the Consent Decree entered by the Court on August 21, 2015, which resolved Plaintiffs' claims that Defendant violated the Clean Air Act at its steel manufacturing plant located in Dearborn, Michigan. The Consent Decree required Defendant to improve its maintenance and operation of the electrostatic precipitator (“ESP”) at the plant in order to reduce emissions of various pollutants. Plaintiffs have determined, however, that these efforts were insufficient and the Modification requires Defendant to replace the ESP entirely. It also requires routine testing of the new ESP, operation in accordance with various parameters, and improved monitoring. Finally, the Modification requires Defendant to pay an $80,000 penalty to Michigan for violation of state law and perform a State supplemental environmental project that consists of providing air purifiers to area residences near the plant.

The publication of this notice opens a period for public comment on the proposed Modification. Comments should be addressed to the Assistant Attorney General, Environment and Natural Resources Division, and should refer to United States, et al. v. Cleveland-Cliffs, Case No. 15-cv-11804, D.J. Ref. No. 90-5-2-1-10702. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Modification may be examined and downloaded at this Justice Department website: https://www.usdoj.gov/enrd/Consent_Decrees.html. We will provide a paper copy of the Modification upon written request and payment of reproduction costs. Please mail your request and payment to: Consent Decree Library, U.S. DOJ—ENRD, P.O. Box 7611, Washington, DC 20044-7611.

Please enclose a check or money order for $34.25 (25 cents per page reproduction cost) for the proposed Modification, payable to the United States Treasury.

Patricia Mckenna,
Assistant Section Chief, Environmental Enforcement Section, Environment and Natural Resources Division.

[FR Doc. 2023-23502 Filed 10-24-23; 8:45 am]

BILLING CODE 4410-15-P